DEPARTMENT OF COMMERCE

Submission for OMB Review: Comment Request

DOC has submitted to the Office of Management and Budget (OMB) for clearance of the following proposal for collection of information under the provisions of the Paperwork Reduction Act of 1995, Public Law 104-13.

Bureau: International Trade Administration.

Title: Commercial News USA.

Agency Form Number: ITA-4063P.

OMB Number: 0625-0061.

Type of Request: Regular Submission.

Burden: 733 hours.

Number of Respondents: 2,200.

Avg. Hours Per Response: 20 minutes.

Needs and Uses: Commercial News USA (CNUSA), published twelve times a year by a private sector firm, is the U.S. Department of Commerce's export catalog-magazine. The product information in CNUSA reaches more than 145,000 distributors, government officials, and potential buyers overseas through direct distribution from U.S. embassies and consulates. Firms use the form to request that their product information be published in CNUSA, a service for which the firms pay a minimum fee of $695.

This information collection item allows the U.S. Department of Commerce to promote U.S. products and services available for export as part of the USDOC's trade promotion activities. CNUSA is a unique export promotion service for U.S. manufacturers and service firms; nothing similar is available to them through the private sector. The product promotions in CNUSA differ from paid advertisements in that they must meet program criteria. Because U.S. embassies and consulates handle distribution, the product information reaches a vast, screened readership not only through direct dissemination but also via counseling by commercial officers and through walk-in visits to commercial libraries where CNUSA is displayed. Further, American Chambers of Commerce, local business editors, and other trade entities that reprint information from CNUSA or display or disseminate the entire magazine provide a multiplier effect.

Affected Public: Business or other for profit, not-for-profit institutions.

Frequency: On occasion.

Respondent's Obligation: Required to obtain or retain a benefit, voluntary.

OMB Desk Officer: David Rostker, (202) 395-3897.

Copies of the above information collection can be obtained by calling or writing Madeleine Clayton, Departmental Paperwork Clearance Officer, (202) 482-3129, Department of Commerce, Room 6608, 14th & Constitution Avenue, NW., Washington, DC 20230 or via the Internet at MClayton@doc.gov.

Written comments and recommendations for the proposed information collection should be sent to David Rostker, OMB Desk Officer, Room 10202, New Executive Office Building, Washington, DC 20503 within 30 days of the publication of this notice in the Federal Register.

Dated: May 30, 2002.
Madeleine Clayton,
Departmental Paperwork Clearance Officer, Office of the Chief Information Officer.

[FR Doc. 02-13997 Filed 6-4-02; 8:45 am]

BILLING CODE 3510-FP-P